Proclamation 9135 of May 30, 2014

Great Outdoors Month, 2014

By the President of the United States of America

A Proclamation

On windswept coastlines, in lush forests, and atop striking mountain peaks, Americans take in sights that have inspired generations. Our natural landscapes provide refuge for those seeking solitude. They attract tourism, create jobs, and honor our history and cultural heritage. They are family campgrounds, arenas for recreation, and backdrops for countless adventures. During Great Outdoors Month, we celebrate the rugged beauty that echoes the independence at the heart of the American spirit, and we rededicate ourselves to protecting these open spaces for tomorrow's explorers, athletes, and lovers of nature.

America's conservation legacy is rooted not only in its forward-thinking leaders like Presidents Thomas Jefferson, Abraham Lincoln, and Theodore Roosevelt—but also in all the Americans who did their part to safeguard a small slice of the land they love. It falls to each of us to advance their legacy in our time. That is why I have permanently protected more than 3 million acres of public land—including 11 new National Monuments established through the Antiquities Act and new wilderness areas in nine States across the country—and designated more than a thousand miles of wild and scenic rivers. In my first term, I was proud to launch the America's Great Outdoors Initiative, which increases access to public lands and empowers Americans to better care for the parks, waterways, and natural treasures in their own communities.

My Administration remains committed to developing the next generation of environmental stewards. We created the 21st Century Conservation Service Corps, which provides quality jobs, career pathways, and service opportunities for young people and veterans. We are working to bring public lands into the classroom and to extend educational opportunities to millions of children. And through First Lady Michelle Obama's Let's Move Outside! initiative, we are encouraging children to get active while getting to know the great outdoors.

This month, as we enjoy the natural splendor of our Nation, let us stay true to a uniquely American idea—that each of us has an equal stake in the land around us, and an equal responsibility to protect it. Together, let us ensure our children and grandchildren will be able to look upon our lands with the same sense of wonder as all the generations that came before.

NOW, THEREFORE, I, BARACK OBAMA, President of the United States of America, by virtue of the authority vested in me by the Constitution and the laws of the United States, do hereby proclaim June 2014 as Great Outdoors Month. I urge all Americans to explore the great outdoors and to uphold our Nation's legacy of conserving our lands and waters.

IN WITNESS WHEREOF, I have hereunto set my hand this thirtieth day of May, in the year of our Lord two thousand fourteen, and of the Independence of the United States of America the two hundred and thirty-eighth.

[FR Doc. 2014-13155

Filed 6-3-14; 11:15 am]

Billing code 3295-F4